DEPARTMENT OF LABOR

Employment and Training Administration

[TA-W-37,884]

Rycraft Incorporated, Corvallis, OR; Notice of Affirmative Determination Regarding Application for Reconsideration

By letter of September 18, 2000 the company requested administrative reconsideration of the Department of Labor's Notice of Negative Determination Regarding Eligibility to Apply for Worker Adjustment Assistance (TA-W-37,884). The denial notice was signed on August 25, 2000 and published in the Federal Register on September 12, 2000 (65 FR 55049).

The company provided additional information about customers which should have been considered by the Department in its survey of customers.

Conclusion

After careful review of the application, I conclude that the claim is of sufficient weight to justify reconsideration of the Department of Labor's prior decision. The application is, therefore, granted.

Dated: Signed at Washington, D.C. this 2nd day of November 2000.
Linda G. Poole,
Certifying Officer, Division of Trade Adjustment Assistance.

[FR Doc. 00-29156 Filed 11-14-00; 8:45 am]

BILLING CODE 4510-30-M